DEPARTMENT OF THE INTERIOR

Fish and Wildlife Service

Notice of Availability of the Final Comprehensive Conservation Plans for Assabet River, Great Meadows, and Oxbow National Wildlife Refuges

AGENCY: Fish and Wildlife Service, Department of the Interior.

ACTION: Notice of availability.

SUMMARY: The U.S. Fish and Wildlife Service (Service) announces that the final Comprehensive Conservation Plans (CCP) are available for the Assabet River, Great Meadows, and Oxbow National Wildlife Refuges (NWR). These CCPs were prepared pursuant to the National Wildlife Refuge System Administration Act of 1966, as amended by the National Wildlife System Improvement Act of 1997 (16 U.S.C. 6688dd et seq.), and the National Environmental Policy Act of 1969. The CCPs describe how the Service intends to manage the refuges over the next 15 years.

ADDRESSES: Copies of the CCPs are available on compact diskette or in hard copy, and may be obtained by writing Bill Perry, U.S. Fish and Wildlife Service, 73 Weir Hill Road, Sudbury, Massachusetts 01776, or by e-mailing northeastplanning@fws.gov. These documents may also be accessed at the Web address http://library.fws.gov/ccps.htm.

FOR FURTHER INFORMATION CONTACT: Bill Perry, Refuge Planner at the above address, 978-443-4661 ext. 32, or e-mail at Bill_Perry@fws.gov.

SUPPLEMENTARY INFORMATION: The National Wildlife System Administration Act of 1966, as amended by the National Wildlife Refuge Improvement Act of 1997, requires the Service to develop a CCP for each refuge. The purpose of developing a CCP is to provide refuge managers with a 15-year strategy for achieving refuge purposes and contributing toward the mission of the National Wildlife Refuge System, consistent with sound principles of fish and wildlife science, conservation, legal mandates, and Service policies. In addition to outlining broad management direction on conserving wildlife and habitats, a CCP identifies wildlife-dependent recreational opportunities available to the public, including opportunities for hunting, fishing, wildlife observation and photography, and environmental education and interpretation. The CCP will be reviewed and updated at least every 15 years in accordance with the National Wildlife Refuge System Administration Act of 1969, as amended by the National Wildlife Refuge System Improvement Act of 1997, and the National Environmental Policy Act of 1969.

Great Meadows NWR was established in 1944, when the Concord impoundments became the first tract of land in the refuge. The refuge currently includes 3,863 acres and extends into eight towns. Great Meadows NWR is divided into two units: The Concord unit (1,542 acres) and the Sudbury unit (2,321 acres). The refuge was created under the Migratory Bird Conservation Act “for use as an inviolate sanctuary, or for any other management purpose, for migratory birds.” The refuge provides habitat for a variety of species. For example, the Concord impoundments are used by many migrating waterfowl, shorebirds, wading and marsh birds. The upland areas support woodcock, songbirds, and many raptors. The marsh habitats are used by amphibians and reptiles. This diversity of habitats helps to contribute to a number of regional conservation priorities.

Assabet River NWR was formerly known as the Sudbury Training Annex and is the most recent addition to the Eastern Massachusetts National Wildlife Refuge Complex. It was created in the fall of 2000, when Fort Devens Army base transferred 2,230 acres to the Service. This transfer was made in accordance with the Defense Base Closure and Realignment Act of 1990, with the purpose of having “particular value in carrying out the national migratory bird management program.” All acres within the approved refuge boundary are acquired. The large wetland complex and the contiguous forested areas are important feeding and breeding areas for migratory birds. Under U.S. Army administration, the refuge was not opened to general public use; however, hunting, fishing, and interpretive opportunities remain a high priority for local community members.

The Oxbow NWR is located in north-central Massachusetts, approximately 35 miles northwest of Boston, Massachusetts. The refuge consists of 1,667 acres of upland, southern New England floodplain forest and wetland communities along nearly 8 miles of the Nashua River corridor. Oxbow NWR is a long, narrow parcel having a north/south orientation and was formed by three land transfers from the former U.S. Army, Fort Devens Military Installation, and a recent purchase of private land in Harvard, Massachusetts. The primary purpose for which Oxbow NWR was created is its “* * * particular value in carrying out the National Migratory Bird Management Program” (16 U.S.C. 667B, an Act authorizing the transfer of certain real property for wildlife, or other purposes, as amended). The refuge's interspersion of wetland, forested upland and old field habitats is ideally suited for this purpose. The refuge supports a diverse mix of migratory birds including waterfowl, wading birds, raptors, shorebirds, passerines, as well as resident mammals, reptiles, amphibians, fish and invertebrates.

The extensive and regionally significant wetlands occurring on and adjacent to all three refuges, including their associated tributary drainages and headwaters, have been listed as a priority for protection under both the North American Waterfowl Management Plan (NAWMP) and the Emergency Wetlands Resources Act of 1986. The refuges are located in close proximity to the Greater Boston metropolitan area, which, along with their accessibility to the local and regional communities and diverse biological resources, make them highly attractive for natural resource educational or interpretive programs, and compatible wildlife dependent recreational uses.

Our Final CCPs include management direction for each of the refuges and include vegetation management, wildlife management, public use, cultural resources, infrastructure, and refuge operations. On each of the refuges, we have included specific management strategies that include management of native plant communities, non-native invasive species, removal and revegetation of unused roads and stream crossings, and management of water impoundments. Visitor use facilities will include new wildlife observation trails, a visitor contact station for Oxbow NWR, a visitor center for the complex, and new parking areas. Most of the trails would use existing roads and public access would be by foot. A public hunting program will be developed for each of the refuges.

The Service solicited comments on the draft CCP/EA for Great Meadows, Assabet River, and Oxbow NWRs from July 20 to September 3, 2003. We contracted with the U.S. Forest Service's Content Analysis Team (CAT) to compile the nearly 2,000 comments that we received. The CAT developed a summary report of comments as well as a database of individual comments. We used the CAT report and comment database to develop a list of substantive comments that required responses. Editorial suggestions and notes of concurrence with or opposition to certain proposals were noted and included in the decisionmaking process, but do not receive formal responses. The Final CCPs include responses to all substantive comments. Comments are considered substantive if they:

• Question, with reasonable basis, the accuracy of the information in the document,

• Question, with reasonable basis, the adequacy of the environmental analysis,

• Present reasonable alternatives other than those presented in the EIS,

• Cause changes or revisions in the CCP, and

• Provide new or additional information relevant to the analysis.

Based upon comments that we received, we have chosen management alternative B, with the following modifications:

• We have completed a Compatibility Determination (CD) which concludes that jogging is compatible with refuge purposes. However, a study of the impacts of jogging on wildlife will be initiated and results evaluated to evaluate site specific impacts to wildlife. The CD will be reviewed and any appropriate changes will be made using the site specific data in 5 years.

• We have clarified our rules regarding picnicking in the final CCP. No picnic tables will be provided nor will large gatherings or events involving food be permitted. Eating snacks on refuge benches and trails is allowed.

• We modified our original hunting proposal based upon additional analysis of State mandated safety zones, our ability to effectively administer the hunt program, and to balance the needs of the different wildlife-dependent recreationists.

• We clarified that the waterfowl hunting areas along the Concord and Sudbury Rivers at Great Meadows and the Nashua River at Oxbow areas include the main stems of the rivers as well as adjacent wetlands and pools.

• We adjusted the proposed waterfowl hunting areas to remove areas near concentrations of houses, playing fields, and high numbers of additional users.

• We are proposing 1,192 acres of waterfowl hunting that was previously closed.

• We revised the deer hunting program to archery hunting only in areas of specific safety concern.

• We have revised the proposed access fee program to be consistent with other Region 5 refuges and to encourage purchase of the “local” annual pass. Fees would be required at Assabet River, Oxbow (south of Route 2), and the Concord impoundments of Great Meadows. Visitors would be able to use a duck stamp in lieu of the refuge access fee. All access fees are per car or per group for pedestrians.

• We have not modified our decision to prohibit dog walking at Great Meadows and Oxbow NWRs and will not allow dog walking at Assabet River NWR.

Dated: December 23, 2004.
Marvin E. Moriarty,
Regional Director, Fish and Wildlife Service, Hadley, Massachusetts.

[FR Doc. 05-407 Filed 1-7-05; 8:45 am]

BILLING CODE 4310-55-P